NUCLEAR REGULATORY COMMISSION

[Docket NOS. 50-317 AND 50-318]

Calvert Cliffs Nuclear Power Plant, Unit Nos. 1 and 2 Environmental Assessment and Finding of No Significant Impact

The U.S. Nuclear Regulatory Commission (NRC) is considering issuance of an exemption from Title 10 of the Code of Federal Regulations (10 CFR) Part 50.46 and Appendix K to Part 50 for Renewed Facility Operating License Nos. DPR-53 and DPR-69, issued to Calvert Cliffs Nuclear Power Plant, Inc. (the licensee), for operation of the Calvert Cliffs Nuclear Power Plant, Unit Nos. 1 and 2 (Calvert Cliffs 1 and 2), located in Calvert County, Maryland. Therefore, as required by 10 CFR 51.21, the NRC is issuing this environmental assessment and finding of no significant impact.

Environmental Assessment

Identification of the Proposed Action

The proposed exemption would allow the licensee to use up to four lead fuel assemblies (LFAs) containing a limited number of fuel rods with cladding other than Zircaloy or ZIRLO in the core of either Calvert Cliffs 1 or 2. Two of the LFAs were manufactured by Westinghouse Electric Company and contain a limited number of fuel rods clad with advanced zirconium-based alloys. The other two LFAs were manufactured by Framatome ANP, Inc. with fuel rod cladding material as M5 alloy. These LFAs were originally inserted into the Calvert Cliffs 2 core in April of 2003 (operating cycles 15 and 16).

The proposed action is in accordance with the licensee's application dated January 19, 2006.

The Need for the Proposed Action

10 CFR 50.46 and 10 CFR part 50, Appendix K make no provisions for use of fuel rods clad in a material other than Zircaloy or ZIRLO. Since the material specifications of the advanced zirconium-based and M5 alloys differ from the specification for Zircaloy or ZIRLO, a plant-specific exemption is required to support the use of the four LFAs for either Calvert Cliffs 1 or 2. If the exemption were not approved, the licensee would not gain practical experience of these designs relative to grid-to-rod fretting.

Environmental Impacts of the Proposed Action

The NRC has completed its safety evaluation of the proposed action and concludes that the exemption described above would continue to satisfy the underlying purpose of 10 CFR 50.46 and 10 CFR Part 50, Appendix K and will not present an undue risk to the public health and safety. The safety evaluations performed by Westinghouse and Framatome ANP demonstrate that the predicted chemical, mechanical, and material performance of the advanced zirconium and M5 cladding are acceptable under all anticipated operational occurrences and postulated accidents. Furthermore, the LFAs will be placed in non-limiting core locations (low duty locations on the core periphery). In the event that the cladding failures occur in the LFAs, the environmental impact would be minimal and is bound by the previous environmental assessments.

The details of the staff's safety evaluation will be provided in the exemption that will be issued as part of the letter to the licensee approving the exemption to the regulation.

The proposed action will not significantly increase the probability or consequences of accidents. No changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for Calvert Cliffs 1 and 2, dated April 1973, and the Generic Environmental Impact Statement for License Renewal of Nuclear Plants, Calvert Cliffs Nuclear Power Plant (NUREG-1437, Supplement 1), dated October 1999.

Agencies and Persons Consulted

In accordance with its stated policy, on October 27, 2006, the staff consulted with the Maryland State official, Mr. R. McLean of the Maryland Department of Natural Resources, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 19, 2006. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 30th day of October 2006.
For the Nuclear Regulatory Commission.
Patrick D. Milano,
Senior Project Manager, Plant Licensing Branch I-1, Division of Operating Reactor Licensing, Office of Nuclear Reactor Regulation.

[FR Doc. E6-18594 Filed 11-2-06; 8:45 am]

BILLING CODE 7590-01-P